DEPARTMENT OF TRANSPORTATION

Federal Highway Administration

Notice of Final Federal Agency Actions on Proposed Highway in California

AGENCY: Federal Highway Administration (FHWA), Department of Transportation (DOT).

ACTION: Notice of limitation on claims for judicial review of actions by the California Department of Transportation (Caltrans).

SUMMARY: The FHWA, on behalf of Caltrans, is issuing this notice to announce actions taken by Caltrans that are final. The actions relate to a proposed highway project, on State Route 99 from post mile 21.2 to 24.4 in the County of Fresno, State of California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before August 4, 2023. If the Federal law that authorizes judicial review of a claim provides a time period of less than 150 days for filing such claim, then that shorter time period still applies.

FOR FURTHER INFORMATION CONTACT: For Caltrans: Trais Norris, Senior Environmental Planner, 2015 East Shields Avenue, Suite 100, Fresno, California 93726; phone: 209-601-3521; or email: trais.norris@dot.ca.gov.

SUPPLEMENTARY INFORMATION: Effective July 1, 2007, the Federal Highway Administration (FHWA) assigned, and the California Department of Transportation (Caltrans) assumed, environmental responsibilities for this project pursuant to 23 U.S.C. 327. Notice is hereby given that the Caltrans, has taken final agency actions subject to 23 U.S.C. 139(l)(1) by issuing licenses, permits, and approvals for the following highway project in the State of California: Caltrans proposes to rehabilitate State Route 99 between 0.2 mile south of the El Dorado Street Overcrossing and the Clinton Avenue Overcrossing within the City of Fresno in Fresno County. The proposed work includes lengthening and/or widening seven structures and replacing three overcrossings and one railroad underpass, which would provide standard vertical clearances and longer structure spans that would accommodate required horizontal and vertical clearances. The purpose of the project is to provide a long-term solution to the deteriorating pavement within the project limits that reduces maintenance crew exposure and long-term maintenance expenditures.

The actions by the Federal agencies, and the laws under which such actions were taken, are described in the Final Environmental Assessment/Finding of No Significant Impact (FONSI) for the project, approved on February 8, 2023, and in other documents in the FHWA project records. The FEA, FONSI, and other project records are available by contacting Caltrans at the addresses provided above. The Caltrans FEA and FONSI can be viewed and downloaded from the project website at https://dot.ca.gov/caltrans-near-me/district-6/district-6-projects/06-0w800, or viewed at public libraries in the project area: the Gillis Branch Library at 629 West Dakota Avenue, Fresno, California 93705; and the Fresno County Public Library at 2420 Mariposa Street, Fresno, California 93721.

This notice applies to all Federal agency decisions as of the issuance date of this notice and all laws under which such actions were taken, including but not limited to:

1. General: National Environmental Policy Act (NEPA) [42 U.S.C. 4321-4335].

2. Land: Section 4(f) of the Department of Transportation Act of 1966 [23 U.S.C. 138 and 49 U.S.C. 303].

3. Wildlife: Federal Endangered Species Act [16 U.S.C. 1531-1543]; Fish and Wildlife Coordination Act [16 U.S.C. 661-666(C); Migratory Bird Treaty Act [16 U.S.C. 760c-760g].

4. Historic and Cultural Resources: Section 106 of the National Historic Preservation Act of 1966, as amended [16 U.S.C. 470(f) et seq.].

5. Wetlands and Water Resources: Clean Water Act [33 U.S.C. 1344].

6. Hazardous Waste: Comprehensive Environmental Response, Compensation and Liability Act [42 U.S.C. 103]; Resource Conservation and Recovery Act of 1976 [42 U.S.C. 6901 et seq.].

7. Title VI of the Civil Rights Act of 1964, as amended.

8. Executive Order 12898, Federal Actions to Address Environmental Justice and Low Income Populations.

(Catalog of Federal Domestic Assistance Program Number 20.205, Highway Planning and Construction. The regulations implementing Executive Order 12372 regarding intergovernmental consultation on Federal programs and activities apply to this program.)

(Authority: 23 U.S.C. 139(l)(1))

Dated: March 1, 2023.
Antonio Johnson,
Director, Environment, Right-of-Way, Federal Highway Administration, California Division.

[FR Doc. 2023-04563 Filed 3-6-23; 8:45 am]

BILLING CODE 4910-RY-P